DEPARTMENT OF HEALTH AND HUMAN SERVICES

Centers for Medicare & Medicaid Services

[Document Identifiers: CMS-10598 and CMS-224-14]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by November 29, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10598 Evaluation of Stakeholder Training and Program Support

CMS-224-14 Federally Qualified Health Center Cost Report Form

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Revision of a currently approved collection; Title of Information Collection: Evaluation of Stakeholder Training and Program Support; Use: The Centers for Medicare and Medicaid Services (CMS) provides training and technical assistance primarily through weekly, bi-weekly, monthly, or quarterly webinars, conferences, and Computer Based Trainings (CBTs). In addition, CMS provides one-time web-based training and support sessions as needed. Evaluation instruments are electronically sent to participants immediately after each session. Current data collections include online and onsite training session evaluations.

CMS uses information from the data collection activities to determine the extent to which the goals of each training and support session were achieved and to help CMS make improvements for future training and support sessions. The collected data helps CMS address its Government Performance and Results Act (GPRA) requirements, as well as CMS and HHS goals for support for, and open dialogue with, stakeholders.

The Affordable Care Act (ACA) was enacted to assist millions of Americans in obtaining affordable health care services and to allow more employers to offer insurance coverage to their employees in a cost-effective manner. Since the implementation of ACA in 2014, individuals and small businesses have been able to purchase private health insurance through competitive marketplaces called the “Health Insurance Marketplace” (Marketplace). CMS issued regulations for the establishment and practices of Marketplaces in States. The cooperation and coordination of States, health insurance issuers, the Federal Government and other key stakeholders is essential to the continued success of the Marketplace.

The Consolidated Appropriations Act (CAA) of 2021 became law on December 27, 2020. It is a $1.4 trillion omnibus spending agreement that encompasses many different provisions. Two (2) acts within the law apply to the Centers for Medicare and Medicaid Services (CMS) Center for Consumer Information and Insurance Oversight (CCIIO): Title I, “No Surprises Act” and Title II, “Transparency” (NST). Beginning in 2022, new protections through the No Surprises Act are in place to shield millions of consumers from surprise medical bills.

CMS is strongly committed to providing training, outreach, and technical assistance to stakeholders participating in the Marketplace and/or programs mandated by the ACA or NST. In addition, CMS recognizes that the success of Marketplaces and associated programs relies on the cooperation and coordination of States, issuers, Assisters, self-insured health plans, third-party administrators (TPA) of self-insured health plans, agents and brokers, Providers/Facilities, and other stakeholders. Therefore, CMS expects to design and conduct various consumer satisfaction and feedback surveys, usability tests, and focus groups for these respondents to complete. Form Number: CMS-10598 (OMB Control Number: 0938-1331); Frequency: Annually; Affected Public: Individuals and Households, Private Sector, State, Local, and Tribal Governments, Federal Government, Business or other for-profit, and not-for-profit institutions; Number of Respondents: 9,588; Number of Responses: 9,588 Total Annual Hours: 2,397 hours. (For policy questions regarding this collection contact Sonia Henderson at 301-492-4320.)

2. Type of Information Collection Request: Extension without change of a previously approved collection; Title of Information Collection: Federally Qualified Health Center Cost Report Form; Use: The Form CMS-224-14 cost report is needed to determine a provider's reasonable cost incurred in furnishing medical services to Medicare beneficiaries and to calculate the FQHC settlement amount. These providers, paid under the FQHC prospective payment system (PPS), may receive reimbursement outside of the PPS for Medicare reimbursable bad debts, pneumococcal, influenza, and COVID-19 vaccines, and monoclonal antibody products. CMS uses the Form CMS-224-14 for rate setting; payment refinement activities, including developing a FQHC market basket; Medicare Trust Fund projections; and to support program operations. Additionally, the Medicare Payment Advisory Commission (MedPAC) uses the FQHC Medicare cost report data to calculate Medicare margins; to formulate recommendations to Congress regarding the FQHC PPS; and to conduct additional analysis of the FQHC PPS. Form Number: CMS-224-14 (OMB control number: 0938-1298); Frequency: Yearly; Affected Public: Private Sector, State, Local, or Tribal Governments, Federal Government, Business or other for-profits, Not-for-Profit Institutions; Number of Respondents: 2,967; Total Annual Responses: 2,967; Total Annual Hours: 172,086. (For policy questions regarding this collection contact LuAnn Piccione at 410-786-5423.)

William N. Parham, III,
Director, Division of Information Collections and Regulatory Impacts, Office of Strategic Operations and Regulatory Affairs.

[FR Doc. 2024-22355 Filed 9-27-24; 8:45 am]

BILLING CODE 4120-01-P